DEPARTMENT OF THE INTERIOR

National Park Service

National Register of Historic Places; Notification of Pending Nominations and Related Actions

Nominations for the following properties being considered for listing or related actions in the National Register were received by the National Park Service before December 30, 2006. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by January 31, 2007.

John W. Roberts,
Acting Chief, National Register/National Historic Landmarks Program.

FLORIDA

St. Johns County

Homeland School, 249 Church Ave., Homeland, 07000001

IDAHO

Blaine County

Ketchum Ranger District Administrative Site, 131/171 River St., Ketchum, 07000005

Canyon County

Boise River and Canal Bridge, (Metal Truss Highway Bridges of Idaho MPS) Plymouth St., Caldwell, 07000003

Power County

Sparks, Walter, House, (American Falls, Idaho, Relocated Townsite MPS) 408 Roosevelt St., American Falls, 07000002

St. John's Episcopal Church,

(American Falls, Idaho, Relocated Townsite MPS) 328 Roosevelt St., American Falls, 07000004

Washington County

Weiser Oregon Short Line Railroad Depot, One State St., Weiser, 07000006

MAINE

Aroostook County

Jacobson, Pehr J., House, 452 New Sweden Rd., New Sweden, 07000013

Kennebec County

Spruce Point Camps, 84 Bearnstow Rd., Mount Vernon, 07000011

Lincoln County

Chimney Farm, 617 East Neck Rd., Nobleboro, 07000012

Whitefield Union Hall, 901 Townhouse Rd., Whitefield, 07000014

Washington County

Chaloner House, 3 Pleasant St., Lubec, 07000009

York County

Pike, LeRoy F., Memorial Building, 17 Maple St., Cornish, 07000010

MISSOURI

Henry County

Clinton Square Historic District, Roughly 100 Blocks on N & S Main; S. Washington; W Franklin; W Jefferson, Clinton, 07000019

Jackson County

Holy Rosary Historic District, Roughly bounded by 5th and Campbell, 5th and Harrison and 9th E. Missouri Ave., Kansas City, 07000007

Twenty-Ninth Street Colonnaded Apartments Historic District, (Colonnade Apartment Buildings of Kansas City, MO MPS) 900-906 E. 29th St. and 2843 N. Campbell; 910-912 E. 29th St.; 914 E. 29th St., Kansas City, 07000018

Montgomery County

Gloe, Heinrich, House, 358 Hwy P, Rhineland, 07000022

St. Louis Independent City

Falstaff Brewing Corporation Plant Number 1, 3644-3690 Forest Park Blvd., St. Louis (Independent City), 07000008

Forest Park Southeast Historic District (Boundary Increase II), 4121-25, 4127-29, 4131, 4133, 4137, 4139-41, 4143, 4145, 4501-07, 4509-11, 4510, and 4512-14 Manchester Ave., St. Louis (Independent City), 07000015

Jack Rabbit Candy Company Building, 1928-1930 Martin Luther King, St. Louis (Independent City), 07000024

Jones, William Cuthbert, House, 3724 Olive St., St. Louis (Independent City), 07000017

Koken Barbers' Supply co. Historic District, Bounded by Ohio, Sidney and Victor Sts., and alley E of Texas Ave., St. Louis (Independent City), 07000023

Laclede Gas Light Company Pumping Station G, 4401 Chouteau Ave., St. Louis (Independent City), 07000020

Lee, Robert E., Hotel, 205 N. 18th St., St. Louis (Independent City), 07000021

NORTH DAKOTA

Cass County

Union Storage & Transfer Cold Storage Warehouse and Amour Creamery Building, 1026-1032 Northern Pacific Ave. and 1034-1102 Northern Pacifice Ave., Fargo, 07000016

OHIO

Coshocton County

Muskingum River Navigation Historic District, Coshocton, Muskingum, Morgan, Washington Counties, Coshocton, 07000025

Franklin County

Canal Winchester School, 100 South Washington St., Canal Winchester, 07000026

Hamilton County

West Fourth Street Historic District (Boundary Increase), 1-35, 2-18 W. Fourth St., Cincinnati, 07000028

Marion County

Marion Township Sub-District #8 School, 2473 OH 4 N, Marion, 07000027

PENNSYLVANIA

Bucks County

Funk, Jacob, House and Barn, 3609 PA 212, Springfield, 07000030

Dauphin County

Legislative Route 1 Sycamore Allee, Legislative Route 1, approx. 1 mil N and S of Halifax, Halifax and Reed, 07000029

McKean County

Lynn Hall, W side of U.S. 6, 1.5 mi. W of Port Allegany, Liberty Township, 07000033

Philadelphia County

Rohm and Haas Corporate Headquarters, 100 Independence Mall West, Philadelphia, 07000031

Washington County

First National Bank of Charleroi, 210 Fifth St., Charleroi Borough, 07000032

WISCONSIN

Crawford County

Cipra Wayside Mound Group, (Late Woodland Stage in Archeological Region 8 MPS) Address Restricted, Wauzeka, 07000034

Richland County

Shadewald I Mound Group, (Late Woodland Stage in Archeological Region 8 MPS) Address Restricted, Eagle Township, 07000035

[FR Doc. E7-376 Filed 1-12-07; 8:45 am]

BILLING CODE 4312-51-P